DEPARTMENT OF ENERGY

Federal Energy Regulatory Commission

[Docket No. AD09-10-000]

National Action Plan on Demand Response; Notice of Technical Conferences

September 18, 2009.

Take notice that Commission Staff will hold two technical conferences to support the development of the National Action Plan on Demand Response. The first technical conference will take place on October 22, 2009, from 9 a.m. to 5 p.m. Eastern Time in the Commission Meeting Room at the Federal Energy Regulatory Commission, 888 First Street, NE., Washington, DC 20426. The second technical conference will take place on October 27, 2009, from 9 a.m. to 5 p.m. Pacific Time in Portland, OR. Commissioners may attend. The conferences will be open to the public, and all interested persons are invited to participate. For logistical purposes, staff requests those planning to attend pre-register via an electronic form: for Washington, https://www.ferc.gov/whats-new/registration/nap-10-22-form.asp; for Portland, https://www.ferc.gov/whats-new/registration/nap-10-27-form.asp. Advance registration is not required to participate.

Section 529 of the Energy Independence and Security Act of 2007 (EISA) ¹ directed the Commission to develop a National Action Plan on Demand Response (National Action Plan). The purpose of these technical conferences is to elicit further input from interested stakeholders on the possible elements of the National Action Plan as discussed in the Discussion Draft on Possible Elements of a National Action Plan on Demand Response (Discussion Draft) to be released for comment prior to the technical conferences. The Discussion Draft will be noticed at http://www.ferc.gov when it is available. In addition, the Commission seeks input from a broad range of industry stakeholders, state regulatory utility commissioners, and non-governmental groups regarding the best ways to meet the objectives that Congress identified for the National Action Plan: (1) Identification of requirements for technical assistance to States to allow them to maximize the amount of demand response resources that can be developed and deployed; (2) design and identification of requirements for implementation of a national communications program that includes broad-based customer education and support; (3) development or identification of analytical tools, information, model regulatory provisions, model contracts, and other support materials for use by customers, States, utilities and demand response providers.² Commission Staff will draw on the comments received and the discussion at the technical conferences to prepare a draft of the National Action Plan.

¹ Public Law 110-140, § 529, 121 Stat. 1492, 1664 (to be codified at National Energy Conservation Policy Act, 42 U.S.C. 8241-8287d, 8279).

² Id.

There will be panel sessions in the morning of the technical conferences to discuss the overall approach to and scope of the National Action Plan, followed by afternoon breakout sessions that will focus on each of the three statutory objectives above. A closing plenary session will summarize the break-out discussions to identify possible areas of consensus.

Those interested in speaking on the morning panels at the conferences should notify the Commission by September 25, 2009 by completing an online form describing the elements that they will address: for Washington, https://www.ferc.gov/whats-new/registration/nap-10-22-speaker-form.asp; for Portland, https://www.ferc.gov/whats-new/registration/nap-10-27-speaker-form.asp. Due to time constraints, we may not be able to accommodate all those interested in speaking on panels. Panel speakers will be invited so as to balance stakeholder interests. However, all conference attendees are invited to participate in the break-out session discussions and the plenary session. A detailed agenda, including panel speakers, will be published at a later date.

The technical conferences represent one of the means for stakeholders to provide input on the National Action Plan. Those interested will also have an opportunity to submit comments on the Discussion Draft and the technical conferences. The Commission will establish the comment period and provide instructions for submitting comments at a later date.

The morning panel sessions and the plenary session of the conferences will be transcribed. Transcripts of the conferences will be immediately available for a fee from Ace-Federal Reporters, Inc. (202-347-3700 or 1-800-336-6646). A free Web cast of the morning panel sessions and the closing plenary session of the Washington conference will be available. A free Web cast (audio only) of the morning panel sessions and the closing plenary session of the Portland conference will be also available. Anyone with Internet access interested in listening to the Washington conference or Portland conference can do so by navigating to http://www.ferc.gov's Calendar of Events and locating the appropriate event in the Calendar. The events will contain a link to the applicable Web cast option. The Capitol Connection provides technical support for the Washington Web casts and offers the option of listening to the conferences via phone-bridge for a fee. If you have any questions, visit http://www.CapitolConnection.org or call 703-993-3100. The transcripts will be available for free on the Commission's eLibrary system and on the Calendar of Events approximately one week after the conference.

There is an “eSubscription” link on the Web site that enables subscribers to receive e-mail notification when a document is added to a subscribed docket(s). For assistance with any FERC Online service, please e-mail FERCOnlineSupport@ferc.gov, or call (866) 208-3676 (toll free). For TTY, call (202) 502-8659.

Commission conferences are accessible under section 508 of the Rehabilitation Act of 1973. For accessibility accommodations, please send an e-mail to accessibility@ferc.gov or call toll free (866) 208-3372 (voice) or (202) 208-1659 (TTY), or send a FAX to (202) 208-2106 with the required accommodations.

For further information about these conferences, please contact:

Caroline Daly (Technical Information), Office of Energy Policy and Innovation, Federal Energy Regulatory Commission, 888 First Street, NE., Washington, DC 20426. (202) 502-8931. Caroline.Daly@ferc.gov.

Christina Switzer (Legal Information), Office of the General Counsel—Energy Markets, Federal Energy Regulatory Commission, 888 First Street, NE., Washington, DC 20426. (202) 502-6379. Christina.Switzer@ferc.gov.

Kimberly D. Bose,
Secretary.

[FR Doc. E9-23289 Filed 9-25-09; 8:45 am]

BILLING CODE 6717-01-P